DEPARTMENT OF COMMERCE

National Oceanic and Atmospheric Administration

RIN: 0648-XE58

Mid-Atlantic Fishery Management Council; Public Meeting

AGENCY: National Marine Fisheries Service (NMFS), National Oceanic and Atmospheric Administration (NOAA), Commerce.

ACTION: Notice of public meeting.

SUMMARY: The Mid-Atlantic Fishery Management Council's Fishery Management Action Team (FMAT) will hold a public meeting regarding Amendment 15 to the Summer Flounder, Scup, and Black Sea Bass Fishery Management Plan (FMP).

DATES: The meeting will be held on Wednesday, January 16, 2008, from 10 a.m. to 5 p.m.

ADDRESSES: The meeting will be held at the Four Points Sheraton, 407 Squire Rd., Revere, MA 02151; telephone: (781) 284-7200).

Council address: Mid-Atlantic Fishery Management Council; 300 S. New Street, Room 2115, Dover, DE 19904, telephone: (302) 674-2331.

FOR FURTHER INFORMATION CONTACT: Daniel T. Furlong, Executive Director, Mid-Atlantic Fishery Management Council; 300 S. New Street, Room 2115, Dover, DE 19904, telephone: (302) 674-2331, extension 19.

SUPPLEMENTARY INFORMATION: The purpose of this meeting is to initiate work on Amendment 15 to the Summer Flounder, Scup, and Black Sea Bass Fishery Management Plan. Amendment 15 will be a comprehensive document which addresses issues relevant to the commercial and recreational fisheries for summer flounder, scup, and black sea bass.

Special Accommodations

The meeting is physically accessible to people with disabilities. Requests for sign language interpretation or other auxiliary aids should be directed to M. Jan Bryan at the Mid-Atlantic Council Office, (302) 674-2331 extension 18, at least 5 days prior to the meeting date.

Dated: December 19, 2007.
Tracey L. Thompson,
Acting Director, Office of Sustainable Fisheries, National Marine Fisheries Service.

[FR Doc. E7-24916 Filed 12-21-07; 8:45 am]

BILLING CODE 3510-22-S